DEPARTMENT OF ENERGY

Federal Energy Regulatory Commission

Combined Notice of Filings #1

Take notice that the Commission received the following electric corporate filings:

Docket Numbers: EC19-63-000.

Applicants: NRG Wholesale Generation LP, Entergy Mississippi, LLC.

Description: Supplement to Joint Application for Authorization Under Section 203 of the Federal Power Act [Exhibit M] of NRG Wholesale Generation LP, et al.

Filed Date: 8/5/19.

Accession Number: 20190805-5104.

Comments Due: 5 p.m. ET 8/15/19.

Take notice that the Commission received the following electric rate filings:

Docket Numbers: ER18-1222-006.

Applicants: PSEG Energy Resources & Trade LLC.

Description: Compliance filing: Revised Tariff Record Reactive Service for Keys to be effective 7/3/2018.

Filed Date: 8/6/19.

Accession Number: 20190806-5104.

Comments Due: 5 p.m. ET 8/27/19.

Docket Numbers: ER19-2343-001.

Applicants: 2018 ESA Project Company, LLC.

Description: Tariff Amendment: Supplement to Application to be effective 9/1/2019.

Filed Date: 7/31/19.

Accession Number: 20190731-5144.

Comments Due: 5 p.m. ET 8/12/19.

Docket Numbers: ER19-2507-001; ER13-1793-013; ER12-1260-014.

Applicants: Convergent Energy and Power LP, Hazle Spindle, LLC, Stephentown Spindle, LLC.

Description: Notice of Change in Status of the Convergent MBR Sellers, et al.

Filed Date: 8/5/19.

Accession Number: 20190805-5105.

Comments Due: 5 p.m. ET 8/26/19.

Docket Numbers: ER19-2534-000.

Applicants: Citizens Energy Corporation.

Description: Baseline eTariff Filing: Application, Request for Waiver and Baseline MBR Tariff to be effective 8/10/2019.

Filed Date: 8/6/19.

Accession Number: 20190806-5000.

Comments Due: 5 p.m. ET 8/27/19.

Docket Numbers: ER19-2535-000.

Applicants: Southwest Power Pool, Inc.

Description: § 205(d) Rate Filing: Revisions to Enhance Market Settlements Associated with Emergency Energy to be effective 10/7/2019.

Filed Date: 8/6/19.

Accession Number: 20190806-5052.

Comments Due: 5 p.m. ET 8/27/19

Docket Numbers: ER19-2536-000.

Applicants: Emera Maine.

Description: Tariff Cancellation: Notice of Termination of Expired Service Agreement—Passadumkeag Windpark, LLC to be effective 10/29/2014.

Filed Date: 8/6/19.

Accession Number: 20190806-5064.

Comments Due: 5 p.m. ET 8/27/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2019.
Kimberly D. Bose,
Secretary.

[FR Doc. 2019-17292 Filed 8-12-19; 8:45 am]

BILLING CODE 6717-01-P